FEDERAL EMERGENCY MANAGEMENT AGENCY

44 CFR Part 65

[Docket No. FEMA-B-7434]

Changes in Flood Elevation Determinations

AGENCY: Federal Emergency Management Agency (FEMA).

ACTION: Interim rule.

SUMMARY: This interim rule lists communities where modification of the Base (1-percent-annual-chance) Flood Elevations is appropriate because of new scientific or technical data. New flood insurance premium rates will be calculated from the modified Base Flood Elevations for new buildings and their contents.

DATES: These modified Base Flood Elevations are currently in effect on the dates listed in the table below and revise the Flood Insurance Rate Maps in effect prior to this determination for each listed community.

From the date of the second publication of these changes in a newspaper of local circulation, any person has ninety (90) days in which to request through the community that the Administrator, Federal Insurance and Mitigation Administration, reconsider the changes. The modified elevations may be changed during the 90-day period.

ADDRESSES: The modified Base Flood Elevations for each community are available for inspection at the office of the Chief Executive Officer of each community. The respective addresses are listed in the table below.

FOR FURTHER INFORMATION CONTACT: Michael M. Grimm, Acting Chief, Hazards Study Branch, Federal Insurance and Mitigation Administration, 500 C Street SW., Washington, DC 20472, (202) 646-2878, or (e-mail) Michael.Grimm@fema.gov.

SUPPLEMENTARY INFORMATION: The modified Base Flood Elevations are not listed for each community in this interim rule. However, the address of the Chief Executive Officer of the community where the modified Base Flood Elevation determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified Base Flood Elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in Base Flood Elevations are in accordance with 44 CFR 65.4.

National Environmental Policy Act

This rule is categorically excluded from the requirements of 44 CFR Part 10, Environmental Consideration. No environmental impact assessment has been prepared.

Regulatory Flexibility Act

The Administrator, Federal Insurance and Mitigation Administration certifies that this rule is exempt from the requirements of the Regulatory Flexibility Act because modified Base Flood Elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community
Arizona:
Coconino | City of Flagstaff (00-09-745P) | Nov. 7, 2002, Nov. 14, 2002, Arizona Daily Sun | The Honorable Joseph C. Donaldson, Mayor, City of Flagstaff, 211 West Aspen Avenue, Flagstaff, Arizona 86001 | Jan. 4, 2001 | 040020
Maricopa | Town of Cave Creek (00-09-495P) | Oct. 31, 2002, Nov. 7, 2002, Arizona Business Gazette | The Honorable Vincent Francia, Mayor, Town of Cave Creek, Town Hall, 37622 North Cave Creek Road, Cave Creek, 85331 | Feb. 15, 2001 | 040129
Maricopa | City of Chandler (01-09-006P) | Nov. 7, 2002, Nov. 14, 2002, Arizona Republic | The Honorable Boyd Dunn, Mayor, City of Chandler, 55 North Arizona Place, Suite 3014, Chandler, Arizona 85225 | Dec. 13, 2000 | 040040
Maricopa | City of Goodyear (00-09-975P) | Nov. 6, 2002, Nov. 13, 2002, West Valley View | The Honorable Bill Arnold, Mayor, City of Goodyear, 190 North Litchfield, Goodyear, Arizona 85338 | Feb. 15, 2001 | 040046
Maricopa | City of Phoenix (00-09-495P) | Nov. 7, 2002, Nov. 14, 2002, Arizona Business Gazette | The Honorable Skip Rimsza, Mayor, City of Phoenix, 200 West Washington, 11th Floor, Phoenix, Arizona 85003-1611 | Feb. 15, 2001 | 040051
Maricopa | Unincorporated Areas (00-09-495P) | Nov. 7, 2002, Nov. 14, 2002, Arizona Business Gazette | The Honorable Don Stapley, Chairman, Maricopa County, Board of Supervisors, 301 West Jefferson, 10th Floor, Phoenix, Arizona 85003 | Feb. 15, 2001 | 040037
California
Monterey | Unincorporated Areas (02-09-869P) | Dec. 12, 2002, Dec. 19, 2002, Californian | The Honorable Dave Potter, Chairman, Monterey County Board of Supervisors, P.O. Box 180 , Salinas, California 93902 | Mar. 20, 2003 | 060195
Sacramento | Unincorporated Areas (02-09-1169P) | Oct. 17, 2002, Oct. 24, 2002, Daily Recorder | The Honorable Roger Niello, Chairman, Sacramento County Board of Supervisors, 700 H Street, Room 2450, Sacramento, California 95814 | Jan. 23, 2003 | 060262
San Diego | City of San Diego (02-09-1472X) | Dec. 4, 2002, Dec. 11, 2002, San Diego Union Tribune | The Honorable Richard M. Murphy, Mayor, City of San Diego, 202 C Street, 11th Floor, San Diego, California 92101 | Nov. 22, 2002 | 060295
Santa Clara | Town of Los Gatos (01-09-159P) | Oct. 16, 2002, Oct. 23, 2002, Los Gatos Weekly-Times | Mr. John Curtis, P.E. Director of Parks and Public Works, Town of Los Gatos, P.O. Box 949, Los Gatos, California 95031 | Jan. 22, 2003 | 060343
Santa Clara | Unincorporated Areas (01-09-159P) | Oct. 16, 2002, Oct. 23, 2002, Los Gatos Weekly-Times | The Honorable Donald F. Gage, Chairman, Santa Clara County Board of Supervisors, East Wing, 10th Floor, 70 West Hedding Street, San Jose, California 95110 | Jan. 22, 2003 | 060337
Ventura | City of Camarillo (02-09-583P) | Oct. 24, 2002, Oct. 31, 2002, Ventura County Star | The Honorable Jan McDonald, Mayor, City of Camarillo, 601 Carmen Drive, Camarillo, California 93010 | Jan. 30, 2003 | 065020
Ventura | City of Simi Valley (03-09-0051X) | Nov. 14, 2002, Nov. 24, 2002, Ventura County Star | The Honorable William Davis, Mayor, City of Simi Valley, 2929 Tapo Canyon Road, Simi Valley, California 93063 | Nov. 6, 2002 | 060421
Ventura | Unincorporated Areas (02-09-1213P) | Oct. 31, 2002, Nov. 7, 2002, Fillmore Gazette | The Honorable Frank Schillo, Chairman, Ventura County Board of Supervisors, 800 South Victoria Avenue, Ventura, California 93009 | Feb. 6, 2003 | 060413
Colorado:
Adams | City of Commerce City (02-08-283P) | Oct. 24, 2002, Oct. 31, 2002, Denver Post | The Honorable E.E. “Casey” Hayes, Mayor, City of Commerce City, 5291 East 60th Avenue, Commerce City, Colorado 80022 | Jan. 30, 2003 | 080006
Adams | City of Thornton (02-08-283P) | Oct. 24, 2002, Oct. 31, 2002, Denver Post | The Honorable Noel Busck, Mayor, City of Thornton, 9500 Civic Center Drive, Thornton, CO 80229 | Jan. 30, 2003 | 080007
Adams | Unincorporated Areas (02-08-283P) | Oct. 24, 2002, Oct. 31, 2002, Denver Post | The Honorable Martin Flaum, Chairman, Adams County Board of Commissioners, 450 South Fourth Avenue, Brighton, Colorado 80601 | Jan. 30, 2003 | 080001
Adams, Boulder, Jefferson, Weld | City of Broomfield (02-08-156P) | Nov. 20, 2002, Nov. 27, 2002, Denver Post | The Honorable Karen Stuart, Mayor, City and County of Broomfield, One Des Combes Drive, Broomfield, Colorado 80020 | Feb. 26, 2003 | 085073
Boulder | City of Boulder (02-08-340P) | Nov. 21, 2002, Nov. 28, 2002, Denver Post | The Honorable William R. Toor, Mayor, City of Boulder, 1777 Broadway, Boulder, Colorado 80306 | Feb. 27, 2003 | 080024
Douglas | Town of Parker (02-08-171P) | Oct. 10, 2002, Oct. 17, 2002, Denver Post | The Honorable Gary Lasater, Mayor, Town of Parker, 20120 East Main Street, Parker, Colorado 80138 | Jan. 16, 2003 | 080310
Douglas | Unincorporated Areas (02-08-171P) | Oct. 10, 2002, Oct. 17, 2002, Denver Post | The Honorable James R. Sullivan, Chairman, Douglas County Board of Commissioners, 100 Third Street, Castle Rock, Colorado 80104 | Jan. 16, 2003 | 080049
Garfield | City of Rifle (02-08-123P) | Dec. 26, 2002, Jan. 2, 2003, Citizen Telegram | The Honorable Keith Lambert, Mayor, City of Rifle, 202 Railroad Avenue, Rifle, Colorado 81650 | Dec. 4, 2002 | 085078
Larimer | City of Fort Collins (01-08-092P) | Nov. 7, 2002, Nov. 14, 2002, Fort Collins Coloradoan | The Honorable Ray Martinez, Mayor, City of Fort Collins, P.O. Box 580, Fort Collins, Colorado 80522-0580 | May 30, 2001 | 080102
Hawaii.
Hawaii | Hawaii County (99-09-680P) | Nov. 7, 2002, Nov. 14, 2002, Hawaii Tribune Herald | The Honorable Harry Kim, Mayor, Hawaii County, 25 Aupuni Street, Hilo, Hawaii 96720 | Aug. 15, 2000 | 155166
Honolulu | City and County of Honolulu (00-09-244P) | Nov. 7, 2002, Nov. 14, 2002, Honolulu Star Bulletin | The Honorable Jeremy Harris, Mayor, City and County of Honolulu, 530 South King Street, Honolulu, Hawaii 96813 | Feb. 1, 2001 | 150001
Missouri:
Clay | Unincorporated Areas (03-07-0112P) | Jan. 2, 2003, Jan. 9, 2003, Kearney Courier | The Honorable Thomas Brandon, Presiding Commissioner, Clay County, Clay County Courthouse, One Courthouse Square, Liberty, Missouri 64068 | Apr. 24, 2003 | 290086
Montana:
Gallatin | City of Bozeman (00-08-367P) | Nov. 7, 2002, Nov. 14, 2002, Bozeman Daily Chronicle | The Honorable Steven Kirchhoff, Mayor, City of Bozeman, P.O. Box 1230, Bozeman, Montana 59771-1230 | Dec. 20, 2000 | 300028
Texas:
Bexar | City of San Antonio (00-06-862P) | Nov. 7, 2002, Nov. 14, 2002, San Antonio Express News | The Honorable Ed Garza, Mayor, City of San Antonio, P.O. Box 839966, San Antonio, Texas 78283-3966 | Apr. 2, 2001 | 480045
Utah:
Washington | City of St. George (02-08-101P) | Dec. 19, 2002, Dec 26, 2002, Spectrum | The Honorable Daniel McArthur, Mayor, City of St. George, 175 East 200 North, St. George, Utah 84770 | Mar. 27, 2003 | 490177
Washington:
Spokane | Unincorporated Areas (02-10-614P) | Nov. 21, 2002, Nov. 28, 2002, Spokesman-Review | Ms. Francine Boxer, Chief Executive Officer, Spokane County, 1116 West Broadway Avenue, Spokane, Washington 99260 | Mar. 25, 2003 | 530174

(Catalog of Federal Domestic Assistance No. 83.100, “Flood Insurance”)
Dated: January 28, 2003.
Anthony S. Lowe,
Administrator, Federal Insurance and Mitigation Administration.

[FR Doc. 03-3184 Filed 2-7-03; 8:45 am]

BILLING CODE 6718-04-U